DEPARTMENT OF TRANSPORTATION

Federal Aviation Administration

Runway Incursion Information Evaluation Program

AGENCY: Federal Aviation Administration (FAA), DOT.

ACTION: Notice of program continuation.

SUMMARY: This document announces the continuation for a 24-month period and expansion of the Runway Incursion Information Evaluation Program (RIIEP). The purpose of the RIIEP is to gather critical safety data not otherwise available concerning the root causes of surface incidents, including runway incursions. The primary means of gathering the data is through in-depth interviews of pilots and maintenance technicians involved in these incidents. This document affirms the FAA's policy concerning enforcement-related incentives for pilots and maintenance technicians to encourage them to participate in the program. It also reiterates the FAA's policy concerning the use for enforcement purposes of information provided by pilots and maintenance technicians under the program.

DATES: The program is in effect from July 21, 2006, through July 20, 2008.

FOR FURTHER INFORMATION CONTACT: Chris Monteleon, Representative of the Associate Administrator for Aviation Safety (AVS) and the Director, Flight Standards Service (AFS) to the FAA Office of Runway Safety, Federal Aviation Administration, 470 L'Enfant Plaza, Suite 7100, Washington, DC 20024; Telephone (202) 385-4719; e-mail Chris.Monteleon@faa.gov.

SUPPLEMENTARY INFORMATION:

Background

One of the FAA's top safety priorities is to prevent runway incursions.¹ To help achieve this goal, the FAA has implemented system-safety initiatives to reduce runway incursions by gathering and evaluating data concerning root causes of runway incursions and through enhanced education and training of pilots and maintenance technicians.²

¹ Runway incursion is currently defined in the United States as “any occurrence in the airport runway environment involving an aircraft, vehicle, person, or object on the ground that creates a collision hazard or results in a loss of required separation with an aircraft taking off, intending to take off, landing or intending to land.” Runway incursions are identified and tracked at towered airports (airports with an operating FAA or contract tower).

² Surface incident (for the purpose of the RIIEP) is defined as an incident where an aircraft operated by a pilot or maintenance technician taxiing enters a runway safety area without a clearance but another aircraft was not present.

The Flight Standards Service (AFS) ordinarily becomes aware of reported surface incidents, including runway incursions, through notification by the Air Traffic Organization (ATO). However, the FAA often has insufficient data to fully analyze the risk factors and root causes leading to an incident. Accordingly, in March 2000, the FAA implemented the Runway Incursion Information Evaluation Program (RIIEP) for a period of one year, which was renewed in July 2004, through July 2006. Through the RIIEP, the FAA sought data concerning runway incursions by interviewing pilots involved in such events. Under the RIIEP, pilots involved in runway incursions who cooperated with FAA Aviation Safety Inspectors (ASI) by providing information concerning the incident were generally not subject to legal enforcement. We expected the pilot to share valuable safety information that would help us identify the cause of the runway incursion. We wanted this information to aid in determining root causes of runway incursions and to develop effective mitigation action.

The program, since its inception, has been successful in gathering root-cause data leading to the development of risk-reduction strategies. The FAA has learned, however, that the program needs enhancements to assure the RIIEP will reach its voluntary safety-program potential.

Therefore, ninety days before the end of the current period, the FAA evaluated the RIIEP. In particular, the FAA identified a need for improved methods of gathering and analyzing data collected under the RIIEP, and for implementing improved risk-reduction strategies. The FAA considered factors, including the following, in determining whether the RIIEP should continue to build on its success, as well as provide enhanced, critical system-safety, risk-reduction measures in the future: The FAA and the NTSB consider the risk of runway incursion, in commercial aviation and general aviation, and at towered and non-towered airports, an ever-present, high-visibility risk.

• The current implementation of ISO 9001 throughout AVS would provide controls for successful RIIEP processes.

• The future value to runway safety found in the current effort of voluntary, aviation safety information database-sharing through the collaboration of FAA, industry, and academia: An important example is a current aviation rulemaking committee review of the possible benefit of integrating certain program aspects of the RIIEP Database Management and Reporting System (DMRS) with the Distributed National Aviation Safety Action Program (ASAP) Archives (DNAA), perhaps together with the Distributed National Flight Operations Quality Assurance (FOQA) Archives (DNFA) and the Aviation Safety Reporting System (ASFS) databases.

• The continued interface with the Surveillance and Evaluation Program (SEP) and the Air Transportation Oversight System (ATOS) risk identification and mitigation processes.

• The opportunity for RIIEP to develop into the international leader for runway-incursion risk reduction.

• The program-management continuity necessary to increase the current volume and quality of reported data.

• The value of providing the opportunity to increase the size of the RIIEP database and enhance the methodology of its database analysis.

• The development and implementation of more effective means of reaching operators, agencies, and training centers, and their pilots, maintenance technicians, instructors, and designees.

• The widespread publication of a brief, periodic “tip” to further RIIEP knowledge and maintain program awareness within AFS and its customers.

• With these enhancements, the FAA believes RIIEP will become the leader in analyzing the root causes of surface incidents, including runway incursions. Further, we believe these enhancements will improve methods of providing critical data that would be used as the basis for the FAA to recommend and implement world-standard risk mitigation.

Accordingly, we have further modified the RIIEP and shall continue the program for 24 months. In addition, 120 days before the end of the current period, the Associate Administrator for Aviation Safety (AVS) and the Air Traffic Organization (ATO) shall provide the Administrator a report summarizing root causes identified, resulting plans in progress, and programs and technologies implemented. Ninety days before the end of this period, the FAA will evaluate the RIIEP and whether we should continue the program or let it expire.

Continued Runway Incursion Information and Evaluation Program

Under the continued RIIEP, pilots and maintenance technicians taxing aircraft involved in an alleged runway incursion may expect to be contacted by an ASI shortly after the incident. The ASI will inform the pilot or maintenance technician that participation in the RIIEP interview process is voluntary. The ASI may conduct the interview in person, electronically, or by telephone. AFS has developed standardized RIIEP methodology in the form of questionnaires, one for pilots and one for maintenance technicians, from which the ASI will obtain important, sometimes critical, safety data. To obtain complete recordable data concerning a runway incursion for analysis and to implement preventive measures, the ASI also will encourage pilots and maintenance technicians to provide additional comments. The ASI will record those comments in the RIIEP questionnaire “comments section.” These comments should capture perception, as well as fact, concerning the event and may range from general to specific.

Note that RIIEP guidance for Flight Standards' Regions, Divisions, and Field Offices is Joint Flight Standards Information Bulletin, FSAW 04-09, FSAT 04-03, and FSGA 04-01, Implementation of the Renewed Runway Incursion Information Evaluation Program (RIIEP), which is located at http://www.faa.gov/library/manuals/examiners_inspectors/8300/fsaw/media/FSAW0409_fsat0403.doc.

RIIEP Enforcement Policy

A pilot deviation (PD) is a type of surface incident, including runway incursion, which involves possible regulatory violation by a pilot. A vehicle or pedestrian deviation (V/PD) is a type of surface incident, including runway incursion, involving a vehicle or pedestrian that involves possible regulatory violation by the same. (RIIEP analysis considers relevant incidents involving aircraft operated by maintenance technicians to be vehicle deviations.)

When ATO provides report of either a preliminary PD, or preliminary V/PD, AFS may open an enforcement investigation.

If the investigation reveals a violation of FAA regulation, the pilot or maintenance technician is further subject to legal enforcement action (certificate action or civil penalty). However, as an incentive to encourage participation in the RIIEP, for certificated airmen who cooperate and provide detailed information regarding that deviation, the FAA intends to continue foregoing legal enforcement action and, instead, offer administrative action ³ or counseling ⁴, which involve no finding of violation, provided:

³ An administrative action is either a warning or letter of correction, which is generally issued when remedial training is taken.

⁴ Counseling is an action carried out under the guidance of the FAA's Aviation Safety Program, which is a program designed to promote safety and technical proficiency by providing guidance and support for the aviation community through education and cooperative efforts.

1. The nature of the apparent violation does not indicate that a certificate holder lacks qualification to hold a certificate;

2. The apparent violation was inadvertent, i.e., not the result of purposeful misconduct;

3. The apparent violation was not a substantial disregard for safety or security;

4. The apparent violator has a constructive attitude toward complying with the regulations; and

5. The apparent violation does not indicate a trend of noncompliance.

In certain cases, the FAA may determine an airman should complete corrective action, such as remedial training, to help prevent further runway incursion or surface incident. Such corrective action is voluntary; however, refusal by the pilot or maintenance technician to undertake the same could result in legal enforcement action being taken.

If an apparent violation resulting from the surface incident, including runway incursion, or the circumstances surrounding the same, demonstrate or raise a question of lack of qualification of an airman, the FAA will proceed with appropriate action. Such action may include reexamination, certificate suspension pending successful reexamination, or certificate revocation.

Foreign airmen may not participate in the RIIEP.

Runway Safety Education Demonstrating a Constructive Attitude

In determining whether an apparent violator has a constructive attitude regarding compliance with the regulations, the FAA will consider documentation showing the completion of an FAA- or industry-sponsored safety seminar on the subject(s) causal to the alleged violation.

Through the collaboration of FAA and industry, pilot and maintenance technician runway-safety education programs are available at http://www.aopa.org/asf/runway_safety; www.alpa.org/runwaysafety; and http://www.faa.gov/runwaysafety. We will consider successful completion and documentation of these runway-safety education programs favorably in determining the course of action we will take when a pilot or maintenance technician is involved in a surface incident, including a runway incursion. The Runway Safety Education program also qualifies for credit under the Pilot Proficiency Awards (WINGS) Program or the Aviation Maintenance Technician Awards (AMT) Program.

FAA Use of Information Provided by Pilots or Maintenance Technicians Under the RIIEP

The FAA recognizes pilots and maintenance technicians may have concern that the information they provide under this program would be used by the FAA for legal enforcement action. The FAA, however, does not expect to use information provided by pilots or maintenance technicians during interviews conducted by ASIs under the RIIEP in FAA legal enforcement action. The record since the inception of the RIIEP displays excellent collaboration in this regard.

RIIEP Coordination With a FAA Aviation Safety Action Program (ASAP)

Notwithstanding published FAA RIIEP policy to the contrary, reports of surface incidents, including runway incursions, accepted under an ASAP will be conducted in accordance with Advisory Circular (AC) 120-66B, Aviation Safety Action Programs (ASAP), as amended, and a memorandum of understanding between the FAA, the certificate holder and, where applicable, pilot or maintenance-technician groups. As with ASAP, the objective of the RIIEP is to encourage the voluntary reporting of safety information not otherwise available that could be critical in identifying casual factors leading to accidents, incidents—particularly runway incursions, and violations.

We encourage certificate holders and representatives of pilot and maintenance-technician groups having ASAP programs to incorporate RIIEP as a voluntary part of their ASAP process by providing RIIEP awareness information to their pilot and maintenance-technician groups.

We strongly encourage ASAP programs, and their event review committee (ERC) members to provide the RIIEP Questionnaire to pilot or maintenance technician who submits an ASAP report involving a runway incursion or surface incident, and to request voluntary completion of the questionnaire by that employee.

Note that RIIEP Questionnaires are located in FSAW 04-09 et al. (see above), Appendices 8 and 9.

In the case of a sole source report, the employee should be instructed not to enter the name identification information requested in Section 1 of the questionnaire. With the ERC's concurrence, that ASI should provide the completed questionnaire to the appropriate FSDO or CMO, which would process the safety data in accordance with Joint FSIB FSAW 04-09, et al. For runway incursions or safety events accepted under an accepted ASAP MOU, the guidance in FAA Order 8400.10, Volume 1, Chapter 5, Section 1, paragraph 293E concerning enforcement investigation coordination of alleged violations applies.

RIIEP Continuation

This continuations of the RIIEP will be in effect for 24 months beginning the effective date listed above.

Issued in Washington, DC on August 2, 2006.
Marion C. Blakey,
Administrator.

[FR Doc. 06-8619 Filed 10-11-06; 8:45 am]

BILLING CODE 4910-13-M